DEPARTMENT OF EDUCATION

Privacy Act of 1974; System of Records

AGENCY: Office of Management, Department of Education.

ACTION: Notice of a new system of records.

SUMMARY: In accordance with the Privacy Act of 1974, as amended, the Department of Education (Department) publishes this notice of a new system of records entitled “Individual Development Planning (IDP) System.” The system will be used by employees and supervisors to identify career development opportunities for employees to ensure that employees receive appropriate training and development to enhance job performance.

The Department seeks comment on this new system of records described in this notice, in accordance with the requirements of the Privacy Act.

DATES: We must receive your comments on the proposed routine uses for the systems of records included in the notice on or before August 30, 2001. The Department filed a report describing the new system of records covered by this notice with the Chair of the Committee on Governmental Affairs of the Senate, the Chair of the Committee on Government Reform and Oversight of the House, and the Administrator of the Office of Information and Regulatory Affairs, Office of Management and Budget (OMB) on July 26, 2001. This new system will become effective after the 30-day period for OMB review of the system expires on August 25, 2001, unless OMB gives specific notice within the 30 days that the changes are not approved for implementation or requests an additional 10 days for its review. The routine uses become effective August 30, 2001 unless they need to be changed as a result of public comment or OMB review. The Department will publish any changes to the routine uses.

ADDRESSES: Address all comments on the proposed routine uses to Chiquitta Thomas, Privacy Act Officer, Office of the Chief Information Officer, U.S. Department of Education, 400 Maryland Avenue, SW., room 4082, Washington, DC 20202-4580. Telephone: (202) 708-9265. If you prefer to send comments through the Internet, use the following address: Comments@ed.gov.

You must include the term “IDP” in the subject line of the electronic message.

During and after the comment period, you may inspect all comments about this notice in room 6E236, 400 Maryland Avenue, SW., Washington, DC, between the hours of 8:00 a.m. and 4:30 p.m., Eastern time, Monday through Friday of each week except Federal holidays.

Assistance to Individuals with Disabilities in Reviewing the Rulemaking Record: On request, we supply an appropriate aid, such as a reader or print magnifier, to an individual with a disability who needs assistance to review the comments or other documents in the public rulemaking record for this notice. If you want to schedule an appointment for this type of aid, you may call (202) 205-8113 or (202) 260-9895. If you use a TDD, you may call the Federal Information Relay Service (FIRS) at 1-800-877-8339.

FOR FURTHER INFORMATION CONTACT: Darlene Holly, Training and Development Center (TDC), Office of Management, U.S. Department of Education, room 2W218 FB6, 400 Maryland Avenue, SW., Washington, DC 20202-4614. Telephone: 202-401-4956. If you use a telecommunications device for the deaf (TDD), you may call the FIRS at 1-800-877-8339.

Individuals with disabilities may obtain this document in an alternative format (e.g., Braille, large print, audiotape, or computer diskette) on request by contacting the contact person listed in the preceding paragraph.

SUPPLEMENTARY INFORMATION:

Introduction

The Privacy Act (5 U.S.C. 552a) (Privacy Act) requires the Department to publish in the Federal Register this notice of a new system of records managed by the Department. The Department's regulations implementing the Act are contained in the Code of Federal Regulations (CFR) in 34 CFR part 5b.

The Privacy Act applies to information about individuals that contain individually identifiable information and that may be retrieved by a unique identifier associated with each individual, such as a name or social security number. The information about each individual is called a “record” and the system is called a “system of records.” The Privacy Act requires each agency to publish notices of systems of records in the Federal Register and to prepare reports to the Office of Management and Budget (OMB) whenever the agency publishes a new system of records.

The Individual Development Planning (IDP) System will help employees improve their current job performance and achieve future career goals. The system will guide employees through a process of setting short-term goals by identifying areas where performance improvement is needed and provide resources for improving performance. The system will also help employees establish long-term career goals and develop a plan for achieving those goals.

This system employs a computer-aided analysis of the employee's job performance as per the self and group scores obtained from the General Performance Appraisal System (GPAS). The results of the analysis, along with the employee's long-term and short-term goals, yield a set of three GPAS standards, which the employee wishes to improve. A self-designated standard may be substituted for one of the standards.

Once the employee has identified the standards to improve, he/she may then use the IDP system to link 1 or 2 career-building activities for each standard. Activities may be (1) training courses from other Government agencies, (2) Department-sponsored training, (3) outside courses, (4) self-study, or (5) non-traditional activities such as joining a community service organization. These activity types are supported by links to database tables, Department Intranet sites, or Internet sites for other agencies.

Once the career-building plan is complete, the employee may submit an on-line version of his/her Individual Development Plan document—the output of the IDP process. The supervisor then reviews the document, offers suggestions for change, and finally approves it when the employee and supervisor come to an agreement. This agreement outlines steps the employee plans to take to work towards improving specific skills, and encourages support from management with training, access to materials, job rotation, etc.

Once a career-building activity has been completed, the employee updates the system with an evaluative comment as to the usefulness of the activity.

GPAS records are derived from the GPAS system but do not include comments. GPAS standards are presented to facilitate analysis and planning. When the employee initiates contact with his/her supervisor, the employee's supervisor may access the employee's selection of standards and career-building activities. Once the employee and supervisor come to an agreement on the individual development plan, both sign the document.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO) toll free at 1-888-293-6498, or in the Washington, DC area at (202) 512-1530.

Note: The official version of this document is the document published in the Federal Register. Free Internet access to the official edition of the Federal Register and the Code of Federal Regulations is available on GPO Access at: http://www.access.gpo.gov/nara/index.html.

Dated: July 26, 2001.
Willie H. Gilmore,
Director, Office of Management.

The Office of Management of the U.S. Department of Education publishes a notice of a new system of records to read as follows:

18-05-14

System Name:

Individual Development Planning System.

Security Classification:

None.

System Location:

U.S. Department of Education, Training and Development Center (TDC), Office of Management, 400 Maryland Avenue, SW., room 2W218, Washington, DC 20202-4614.

Categories of Individuals Covered by the System:

The U.S. Department of Education's (Department) Individual Development Planning (IDP) System covers all Department employees. However, it does not cover temporary employees serving on appointments of 120 calendar days or less in a consecutive 12-month period.

Categories of Records in the System:

This system contains the following information about each employee of the Department: The name of the employee, employee social security number, organizational entity, supervisor, and hire date. The system also includes information from the General Performance Appraisal System (GPAS), including each employee's self-evaluation scores, and evaluation scores of customers, co-workers and supervisors. This system also may contain a computer-aided analysis of the employee's job performance derived from the scores contained in the employee's GPAS, the employee's long-term and short-term career development goals, the employee's individual development plan, and the employee's evaluative comments as to the usefulness of the career-building activities.

Authority for Maintenance of the System:

Title 5, United States Code (U.S.C.), Chapter 43, Subchapter I.

Purpose(s):

The information contained in this system is used for the purposes of improving employee job performance and helping employees to achieve future career goals. The system will guide employees through a process of setting short-term goals by identifying areas where performance improvement is needed and will provide resources for improving performance. The system also will help employees establish long-term career goals and develop a plan for achieving those goals. This system is also designed to automate the career development process.

Routine Uses of Records Maintained in the System, Including Categories of Users and the Purpose of Such Uses:

The Department of Education (the Department) may disclose information contained in a record in the systems of records under the routine uses listed in this system of records without the consent of the individual if the disclosure is compatible with the purposes for which the record was collected. These disclosures may be made on a case-by-case basis, or if the Department has complied with the computer matching requirements of the Act, under a computer matching agreement.

(1) Disclosure for Use by Other Law Enforcement Agencies. The Department may disclose information to any Federal, State, local, or foreign agency or other public authority responsible for enforcing, investigating, or prosecuting violations of administrative, civil, or criminal law or regulation if that information is relevant to any enforcement, regulatory, investigative, or prosecution responsibility within the receiving entity's jurisdiction.

(2) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

(3) Litigation and Alternative Dispute Resolution (ADR) Disclosures

(a) Introduction. In the event that one of the parties listed below is involved in litigation or ADR, or has an interest in litigation or ADR, the Department may disclose certain records to the parties described in paragraphs (b), (c) and (d) of this routine use under the conditions specified in those paragraphs:

(i) The Department of Education, or any component of the Department; or

(ii) Any Department employee in his or her official capacity; or

(iii) Any Department employee in his or her individual capacity if the Department of Justice (DOJ) has agreed to provide or arrange for representation for the employee;

(iv) Any Department employee in his or her individual capacity where the agency has agreed to represent the employee; or

(v) The United States where the Department determines that the litigation is likely to affect the Department or any of its components.

(b) Disclosure to the DOJ. If the Department determines that disclosure of certain records to the DOJ is relevant and necessary to litigation or ADR, the Department may disclose those records as a routine use to the DOJ.

(c) Administrative Disclosures. If the Department determines that disclosure of certain records to an adjudicative body before which the Department is authorized to appear, an individual or entity designated by the Department or otherwise empowered to resolve or mediate disputes is relevant and necessary to the administrative litigation, the Department may disclose those records as a routine use to the adjudicative body, individual, or entity.

(d) Parties, counsels, representatives and witnesses. If the Department determines that disclosure of certain records to a party, counsel, representative or witness in an administrative proceeding is relevant and necessary to the litigation, the Department may disclose those records as a routine use to the party, counsel, representative or witness.

(4) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(5) Employee Grievance, Complaint or Conduct Disclosure. The Department may disclose a record in this system of records to another agency of the Federal Government if the record is relevant to one of the following proceedings regarding a present or former employee of the Department: Complaint, grievance, discipline or competence determination proceedings. The disclosure may only be made during the course of the proceeding.

(6) Labor Organization Disclosure. A component of the Department may disclose records to a labor organization if a contract between the component and a labor organization recognized under Title V of the United States Code, Chapter 71, provides that the Department will disclose personal records relevant to the organization's mission. The disclosures will be made only as authorized by law.

(7) Freedom of Information Act (FOIA) Advice Disclosure. The Department may disclose records to the Department of Justice and the Office of Management and Budget if the Department concludes that disclosure is desirable or necessary in determining whether particular records are required to be disclosed under the FOIA.

(8) Disclosure to the Department of Justice (DOJ). The Department may disclose records to the DOJ to the extent necessary for obtaining DOJ advice on any matter relevant to an audit, inspection, or other inquiry related to the programs covered by this system.

(9) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(10) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(11) Congressional Member Disclosure. The Department may disclose records to a member of Congress from the record of an individual in response to an inquiry from the member made at the written request of that individual. The Member's right to the information is no greater than the right of the individual who requested it.

Disclosure to Consumer Reporting Agencies:

Not applicable.

Policies and Practices for Storing, Retrieving, Accessing, Retaining, and Disposing of Records in the System:

Storage:

The records are maintained in hard copy and on a computer database.

Retrievability:

The files in this system are retrievable by social security number or name.

Safeguards:

The database is protected by stringent security mechanisms that include a combination of hardware, operating system, application software, database software, and procedures. This ensures that every employee's Individual Development Planning (IDP) system career planning records are handled with utmost privacy and confidentiality.

Access to the employee's records is controlled through the IDP application by use of a login/password authentication process. The employee is able to change his/her password at will. Status changes of the IDP record set are tracked, and are available in the form of an audit trail.

Retention and Disposal:

An employee's career-planning information for a semi-annual review period remains in the IDP database until four semi-annual cycles have passed. Each cycle is six months in length. The database is purged on a semi-annual basis of any data that is older than two years.

System Manager(s) and Address:

Training and Development Center, Office of Management, U.S. Department of Education, 400 Maryland Avenue, SW., room 2W218, FB6, Washington, DC 20202-4614.

Notification Procedures:

If you wish to determine whether a record exists regarding you in this system of records, contact the system manager. Your request must meet the requirements of the Department's Privacy Act regulations at 34 CFR 5b.7, including proof of identity. You may present your request in person at any of the locations identified for this system of records or address your request to the system manager at the following address: Training and Development Center, Office of Management, U.S. Department of Education, room 2W218, FB-6, 400 Maryland Avenue, SW., Washington, DC 20202.

Record Access Procedures:

If you wish to access a record regarding you in this system of records, contact the system manager. Your request must meet the requirements of the Department's Privacy Act regulations at 34 CFR 5b.5, including proof of identity. You may present your request in person at any of the locations identified for this system of records or address your request to the system manager at the address listed under Notification Procedures.

Contesting of Records Procedures:

If you wish to contest the contents of records regarding you in this system of records, contact the system manager. Your request must meet the requirements of the Department's Privacy Act regulations at 34 CFR 5b.7, including proof of identity. You may present your request in person at any of the locations identified for this system of records or address your request to the system manager at the address listed under System Manager and Address.

Record Source Categories:

Information in this system of records is derived from the Department's General Performance Appraisal System (GPAS).

System Exempted From Certain Provisions of the Act:

None.

[FR Doc. 01-18985 Filed 7-30-01; 8:45 am]

BILLING CODE 4000-01-P